DEPARTMENT OF TRANSPORTATION

Surface Transportation Board

[STB Ex Parte No. 552 (Sub-No. 13)]

Railroad Revenue Adequacy—2008 Determination

AGENCY: Surface Transportation Board, DOT.

ACTION: Notice of decision.

SUMMARY: On October 26, 2009, the Board served a decision announcing the 2008 revenue adequacy determinations for the Nation's Class I railroads. One carrier, Norfolk Southern Railway Company, is found to be revenue adequate.

DATES: Effective Date: This decision is effective on October 26, 2009.

FOR FURTHER INFORMATION, CONTACT: Paul Aguiar, (202) 245-0323. Assistance for the hearing impaired is available through the Federal Information Relay Service (FIRS) at: (800) 877-8339.

SUPPLEMENTARY INFORMATION: The Board is required to make an annual determination of railroad revenue adequacy. A railroad is considered revenue adequate under 49 U.S.C. 10704(a) if it achieves a rate of return on net investment (ROI) equal to at least the current cost of capital for the railroad industry. For 2008, the railroad industry's cost of capital was determined to be 11.75%. See Railroad Cost of Capital—2008, STB Ex Parte No. 558 (Sub-No. 12) (STB served Sept. 25, 2009). This revenue adequacy figure was compared with ROI data from each Class I railroad, and one carrier was found to be revenue adequate for 2008.

The Board's decision in this proceeding is posted on the Board's Web site at http://www.stb.dot.gov under “E-Library,” and “Decisions & Notices.”

This action will not significantly affect either the quality of the human environment or the conservation of energy resources.

Pursuant to 5 U.S.C. 605(b), we conclude that our action in this proceeding will not have a significant economic impact on a substantial number of small entities. The purpose and effect of the action is merely to update the annual railroad industry revenue adequacy finding. No new reporting or other regulatory requirements are imposed, directly or indirectly, on small entities.

Decided: October 16, 2009.
Jeffrey Herzig,
Clearance Clerk.

[FR Doc. E9-25478 Filed 10-23-09; 8:45 am]

BILLING CODE 4915-01-P